DEPARTMENT OF COMMERCE

National Oceanic and Atmospheric Administration

[I.D. 032906G]

North Pacific Fishery Management Council; Public Meeting

AGENCY: National Marine Fisheries Service (NMFS), National Oceanic and Atmospheric Administration (NOAA), Commerce.

ACTION: Notice of a public meeting.

SUMMARY: The North Pacific Fishery Management Council (Council) Charter Halibut Stakeholder Committee will meet in Anchorage, AK.

DATES: The meeting will be held on April 18-20, 2006, 8:30 a.m. to 5 p.m.

ADDRESSES: The meeting will be held at the Anchorage Hilton Hotel, 500 West 3rd Avenue, Aspen/Spruce Room, Anchorage, AK 99501.

Council address: North Pacific Fishery Management Council, 605 W. 4th Ave., Suite 306, Anchorage, AK 99501-2252.

FOR FURTHER INFORMATION CONTACT: Jane DiCosimo, Council staff, telephone: (907) 271-2809.

SUPPLEMENTARY INFORMATION: The Charter Halibut Stakeholder Committee will convene for its third meeting to continue development of two alternatives to allocate halibut between the charter and commercial sectors. One alternative would be a percentage allocation to the charter sector. Elements to be considered include, but are not limited to: (1) A percentage based allocation that would float up and down with halibut abundance; (2) Subdivision of Area 2C and 3A into smaller geographic sub-districts; (3) Management measures that will be used to enforce the allocation, including: (a) the current suite of measures to reduce harvests under the Guideline Harvest Level (GHL) (i.e., one trip per vessel per day, no harvest by skipper and crew, and annual limit of 5 or 6 fish per person (for Area 2C only); (b) Limits on the number of lines fished to the number of clients; (c) Other annual bag limits; (d) Limits on days fished (either total number of days or by excluding specific days of the week); (e) Reduced daily limits including size limitations for the second fish caught; (f) Subtraction of any allocation overage from the following year's allocation; (g) Federal limited entry program with delayed transferability; (h) Mechanisms which, if the charter harvest continues to grow, would allow for an orderly and compensated allocation shift from the longline sector to the charter sector, including the use of a charter stamp or other funding mechanisms to generate funds to buy commercial quota shares to convert commercial allocation to the charter sector and to pay for management of the charter fishery.

A second alternative would be an Individual Fishing Quota (IFQ) program, including, but not be limited to: (1) Elements of the previously proposed (2001) charter IFQ program; (2) A modified IFQ program, including, but not be limited to, including recent participants who were not included in the 2001 plan. Such approaches might include a “leveling” plan, other effort based mechanisms to update 1998 and 1999 history, new history approaches, an effort based transferable seat program, or other options; (3) Subdivision of Area 2C and 3A into smaller geographic sub-districts; and (4) Other elements to be identified by the committee.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: March 30, 2006
Tracey L. Thompson,
Acting Director, Office of Sustainable Fisheries, National Marine Fisheries Service.

[FR Doc. E6-4802 Filed 4-3-06; 8:45 am]

BILLING CODE 3510-22-S